DELAWARE RIVER BASIN COMMISSION

18 CFR Part 410

Proposed Temporary Amendments to the Water Quality Regulations, Water Code and Comprehensive Plan To Extend the Designation of the Lower Delaware River as a Special Protection Water

AGENCY: Delaware River Basin Commission.

ACTION: Proposed rule; notice of public hearing.

SUMMARY: The Delaware River Basin Commission (“Commission” or DRBC) will hold a public hearing to receive comments on a proposed amendment to the Commission's Water Quality Regulations, Water Code, and Comprehensive Plan to extend through May 15, 2008 the temporary classification of the Lower Delaware River as Significant Resource Waters (SRW). Permanent classification is anticipated following an additional notice and comment rulemaking that is expected to begin shortly. Extending the temporary classification will help to protect the exceptional scenic, recreational and water quality values of the Lower Delaware from degradation pending completion of that process.

DATES: The public hearing will take place on Wednesday, September 26, 2007 during the Commission's regular business meeting, beginning at 1:30 p.m. Written comments will be accepted through the close of the public hearing; however earlier submittals would be appreciated. Persons wishing to testify are asked to register in advance with the Commission Secretary, at (609) 883-9500 ext. 203.

ADDRESSES: The public hearing will take place at the Commission's office building, located at 25 State Police Drive, West Trenton, New Jersey. Directions are available on the Commission's Web site, http://www.drbc.net. Please do not rely upon MapQuest or other Internet mapping services for driving directions, as they may not provide accurate directions to the DRBC. Written comments may be submitted by e-mail to paula.schmitt@drbc.state.nj.us; by U.S. Mail to Commission Secretary, DRBC, P.O. Box 7360, West Trenton, NJ 08628-0360; or by fax to 609-883-9522. In all cases, the commenter's name, affiliation if any, and address should be provided in the comment document, and “Lower Delaware SPW Extension” should appear in the subject line.

FOR FURTHER INFORMATION CONTACT: For further information, please contact Pamela M. Bush, Commission Secretary and Assistant General Counsel, Delaware River Basin Commission, at 609-883, 9500 ext. 203.

SUPPLEMENTARY INFORMATION: The Lower Delaware extends from the southern boundary of the Delaware Water Gap National Recreation Area at River Mile (“RM”) 209.4 to the head of tide at Trenton, New Jersey, RM 144.4. The effect of temporary classification of the Lower Delaware as SRW has been to make this portion of the main stem Delaware River and its drainage area subject to all applicable provisions of the Commission's Special Protection Waters regulations, Section 3.10.3 A.2 of the Commission's Water Code and Water Quality Regulations, incorporated by reference at 18 CFR Part 410, except those that depend for implementation upon the use of numeric values for existing water quality.

Key provisions of the Special Protection Waters Regulations that will continue to apply within the drainage area to the Lower Delaware River if the proposed extension of the SRW classification is approved include but are not limited to the following: Subsections 3.10.3 A.2.c.1 through 3, in part requiring that no new or expanded wastewater discharges may be permitted in waters classified as Special Protection Waters until all non-discharge-load reduction alternatives have been fully evaluated and rejected because of technical or financial infeasibility; subsections 3.10.3 A.2.d.1. through 7., setting forth requirements for wastewater treatment facilities; and subsections 3.10.3 A.2.e.1. and 2., conditioning project approval on the existence of an approved Non-Point Source Pollution Control Plan for the project area and requiring that approval of a new or expanded withdrawal and/or wastewater discharge project be subject to the condition that new connections to the project system be limited to service areas regulated by a non-point source pollution control plan approved by the Commission.

Temporary SRW classification of the Lower Delaware was enacted by Commission Resolution No. 2005-2 on January 19, 2005 and initially was due to expire on September 30, 2005. By Resolution No. 2005-15 approved on September 26, 2005, the temporary classification was extended through September 30, 2006 in order to allow time for the Commission to evaluate implementation options and establish numeric values for existing water quality. By Resolution No. 2006-22 on September 27, 2006, the Commission extended temporary designation a second time, through September 30, 2007, because it had not completely resolved implementation issues. The Commission has nearly resolved all remaining issues with respect to implementation, but in order to allow time to complete this process and conduct notice and comment rulemaking on permanent designation of the Lower Delaware as Special Protection Waters, the Commission is proposing to extend the temporary classification for approximately eight months more. If approved, the classification would thus expire on May 15, 2008 unless the Commission should either permanently classify the Lower Delaware River or once again extend the temporary classification by rule amendment prior to that date.

Previous Federal Register notices concerning designation of the Lower Delaware River as Special Protection Waters include notices published on September 23, 2004 (69 FR 57008) (proposed Special Protection Waters designation), August 22, 2005 (70 FR 48923) (proposed extension through September 30, 2006), and August 21, 2006 (71 FR 48497) (proposed extension through September 30, 2007). The proposed and final versions of the initial designation, approved by Resolution No. 2005-2, and the subsequent extensions approved by Resolutions Nos. 2005-15 (extension through September 30, 2006) and 2006-22 (extension through September 30, 2007) were also published on the Commission's Web site, http://www.drbc.net.

Resolution No. 2005-2, temporarily amending the Water Quality Regulations, Water Code, and Comprehensive Plan of the Commission by designating the Lower Delaware River a Special Protection Water, and Resolutions Nos. 2005-15 and 2006-22, extending the temporary amendment approved by Resolution No. 2005-2, are available on the Commission's Web site at http://www.drbc.net or upon request from the Delaware River Basin Commission, P.O. Box 7360, West Trenton, NJ 08628-0360. Maps depicting the designated area are also available on the Web site.

Dated: August 16, 2007.
Pamela M. Bush,
Commission Secretary.

[FR Doc. E7-16549 Filed 8-21-07; 8:45 am]

BILLING CODE 6360-01-P